DEPARTMENT OF AGRICULTURE

Rural Housing Service

Notice of Expiring Expanded Rural Area Definition

AGENCY: Rural Housing Service, USDA.

ACTION: Notice.

SUMMARY: On March 13, 2006 (71 FR 12671-74), a notice was published regarding the availability of hurricane disaster assistance that expanded the rural area definition for USDA Rural Development's housing programs. USDA Rural Development's housing programs are governed by the Housing Act of 1949, as amended (42 U.S.C. 1471, et seq.)(Act).

Section 541 of the Act (42 U.S.C. 1490q), which only applies to USDA Rural Development's housing programs, provided the authority to waive rural area requirements in § 520 of the Act (42 U.S.C. 1490) subsequent to a natural disaster. This waiver authority applied with respect to assistance under § 541. The Secretary could allocate appropriated disaster funds under § 541(a) for each fiscal year during the 3-year period beginning on the declaration of the disaster by the President.

Notice is hereby given that the expanded rural area definition (which increased the population limits to 75,000) under the March 13, 2006 notice will expire at the end of the current fiscal year, September 30, 2008, for areas covered under the Hurricane Katrina or Rita declarations. Financial assistance in these expanded communities must be obligated by the above-mentioned dates. Financial disaster assistance will continue in areas meeting the rural area definition of § 520 of the Act until such appropriations are expended.

FOR FURTHER INFORMATION CONTACT: Myron Wooden, Loan Specialist,Rural Housing Service, Single Family Housing Direct Loan Division, Stop 0783,1400 Independence Avenue SW., Washington, DC 20250-0783; Telephone: 202-720-1474; FAX: 202-720-2232; E-mail: Myron.Wooden@wdc.usda.gov.

Dated: May 13, 2008.
Russell T. Davis,
Administrator, Rural Housing Service.

[FR Doc. E8-11934 Filed 5-28-08; 8:45 am]

BILLING CODE 3410-XV-P